DEPARTMENT OF HEALTH AND HUMAN SERVICES

Substance Abuse and Mental Health Services Administration

Request for Comment on the NSDUH Redesign

AGENCY: Substance Abuse and Mental Health Services Administration (SAMHSA), HHS.

ACTION: Request for comment.

SUMMARY: This document is a request for comment on National Survey on Drug Use and Health (NSDUH) redesign. The Department of Health and Human Services, as part of its continuing effort to produce current data, as well as reduce paperwork and respondent burden, invites the general public and other Federal agencies to take this opportunity to comment on proposed and/or continuing information collections, as required by the Paperwork Reduction Act of 1995.

DATES: Comment Close Date: To be considered, comments must be received at the addresses provided below no later than 60 calendar days from the date of publication in the Federal Register.

ADDRESSES: You may submit electronic comments to NSDUH_Redesign@samhsa.hhs.gov.

FOR FURTHER INFORMATION CONTACT: NSDUH_Redesign@samhsa.hhs.gov.

SUPPLEMENTARY INFORMATION: Inspection of Public Comments: Comments submitted in response to this notice will be used in the development of specific survey redesign options. Comments, including any personally identifiable or confidential business information included in comments submitted in response to this notice, will be summarized and/or included in NSDUH redesign reports.

Background

NSDUH is a national survey of the U.S. civilian, non-institutionalized population aged 12 or older. The NSDUH data collection is essential for meeting a critical objective of SAMHSA's mission—to maintain current data on the prevalence of substance use and mental health problems in the United States. NSDUH is authorized by Section 505 of the Public Health Service Act (42 U.S.C. 290aa-4—Data Collection) which authorizes annual data collection for monitoring the prevalence of illicit substance use and mental health problems, as well as the misuse of licit substances in the U.S. population. NSDUH was conducted on a periodic basis from 1971 to 1988 and has been conducted annually since 1990.

Information collected through NSDUH has multiple applications, including (1) advancing the study of the epidemiology of substance use and mental health; (2) monitoring substance use and mental health trends and patterns; (3) identifying licit and illicit substances being used and misused; (4) studying the use of health care resources for treatment of substance use disorders and mental health problems; (5) assisting Federal, State and local agencies in the allocation of resources; and (6) supporting the proper design and implementation of substance misuse prevention, treatment, and rehabilitation programs. In order to continue meeting data users' needs, SAMHSA's Center for Behavioral Health Statistics and Quality (CBHSQ) must periodically update NSDUH content and methodology to reflect the changing field of substance use and mental health along with data collection best practices. Any redesign will help to ensure NSDUH continues to produce accurate and current data with efficiency.

Redesign Issues for NSDUH

It is important for NSDUH to remain policy relevant and to be a source of reliable information. The impetus for any future NSDUH redesign is to ensure that NSDUH continues to capture substance use, substance use disorder, and mental health concepts accurately, precisely, and in ways that reflect the state of the field as it advances (e.g., updating, adding and removing content to reflect evolving data needs; adapting new approaches for reducing nonresponse). In addition, the redesigned NSDUH should track trends from its inception onward and have flexibility to address changing data needs, to adjust to shifting budgets and to allow occasional adjustments to the sample and questionnaire without putting trend data at risk.

A redesign for NSDUH will require considerable effort and will break trends with earlier NSDUH data where new estimates could not be compared to those from previous years. It is essential to take sufficient time to develop and validate any redesigned measures to avoid the need for further near-term changes with the potential for additional, unanticipated breaks in data trends. The last partial redesign was implemented in 2015. SAMHSA is now exploring the possibility of another redesign sometime in the future.

Request for Comments

This notice is a general solicitation of comments from the public. Proposed changes should meet the following criteria:

• Because NSDUH is a general population survey and includes individuals 12 years and older, questions must be understandable to a person with a 6th grade reading level.

• Each question must have analytic utility. That is, questions must be useful either to estimate prevalence or as a key component in statistical analyses, such as studies of the potential impact of policies.

• Questions must apply to enough respondents that precise estimation is possible (i.e., behaviors, experiences and attitudes must be prevalent enough to ensure reliable estimates).

• Questions should generate data for aggregated analyses, not to assess the efficacy of a particular treatment program.

• Questions should be useful in tracking trends or changes in treatment behavior even when policies change.

• When adding new questions, current questions must be identified for deletion, so there is no increase in respondent burden; survey administration time should average no more than 1 hour.

• Any new questions should be administrable according to NSDUH survey procedures and as part of the redesigned NSDUH questionnaire. Under current practices, this means new questions would be administered using audio computer-assisted self-interviewing [ACASI]), allow no parent proxy reports for youth respondents, and entail no special sampling requirements or changes to household screening questions.

• Any changes would be made at the beginning of any future redesign, and will not be changed again until the next redesign in order to be able to maintain trend data.

Issues of interest for public comment include but are not limited to the following:

• Timing of redesign since it will lead to a break in trends across the board

• Whether and which questionnaire topic areas will add to the utility of the NSDUH

• Potential barriers in developing questions for identified questionnaire topic areas

• Additional topic areas of interest

• Topics and questions to drop from the NSDUH

• Input on feasibility, cost, data accuracy and data completeness for questionnaire and methodological revisions under consideration

All comments should be received by June 26, 2017.

Summer King,
Statistician.

[FR Doc. 2017-08400 Filed 4-25-17; 8:45 am]

BILLING CODE 4162-20-P